ENVIRONMENTAL PROTECTION AGENCY

[EPA-R08-SFUND-2024-0475; FRL-12324-01-R8]

Proposed Settlement With Bona Fide Prospective Purchaser, Miners Point Ventures, LLC, Central City, Clear Creek Superfund Site, Colorado

AGENCY: Environmental Protection Agency (EPA).

ACTION: Notice of proposed settlement; request for public comment.

SUMMARY: Notice is hereby given by the U.S. Environmental Protection Agency (EPA), Region 8, of an administrative settlement agreement for response action by bona fide prospective purchaser entered into voluntarily by the United States of America (“United States”) on behalf of the United States Environmental Protection Agency (“EPA”), the State of Colorado (“State”) and Miners Point Ventures, LLC (“Purchaser”) in connection with the Central City, Clear Creek Superfund Site in Idaho Springs, Clear Creek County, Colorado (“Site”). It is now subject to public comment, after which EPA may modify or withdraw its consent if comments received disclose facts or considerations that indicate that the proposed agreement is inappropriate, improper, or inadequate.

DATES: Comments must be submitted on or before December 27, 2024.

ADDRESSES: The proposed agreement and additional background information relating to the agreement will be available upon request. Any comments or requests or for a copy of the proposed agreement should be addressed to Crystal Kotowski-Edmunds, Enforcement Specialist, Superfund and Emergency Management Division, Environmental Protection Agency, Region 8, Mail Code 8SEM-PAC, 1595 Wynkoop Street, Denver, Colorado 80202, telephone number: (303) 312-6124, email address: edmunds.crystal@epa.gov, and should reference the Central City, Clear Creek Site. You may also send comments, identified by Docket ID No. EPA-R08-SFUND-2024-0475, to https://www.regulations.gov. Follow the online instructions for submitting comments.

FOR FURTHER INFORMATION CONTACT: Amelia Piggott, Attorney, Office of Regional Counsel, Environmental Protection Agency, Region 8, Mail Code 8ORC-LEC, 1595 Wynkoop, Denver, Colorado 80202, telephone number:(303) 312-6410, email address: piggott.amelia@epa.gov.

SUPPLEMENTARY INFORMATION: This settlement provides for the performance of a response action by Purchaser and the payment for certain response costs incurred by the United States and the State of Colorado at or in connection with property within the Site (“Property”). Uncovered mine waste containing lead and arsenic is located on the Property. EPA and the State previously installed engineering controls to a mine waste pile on the Property to ensure lead and aresenic-laden mine waste do not erode into Clear Creek. Uncovered mine waste remains on the Property. Purchaser anticipates developing the Property into a mining-related tourist attraction that will include operation of a gondola that will transport tourists to recreational hiking trails. In order to ensure the development will be protective of human health and the environment, the Purchaser will conduct risk assessment work.

For thirty (30) days following the date of publication of this document, EPA will receive electronic comments relating to the proposed agreement. EPA's response to any comments received will be available for public inspection by request. Please see the ADDRESSES section of this document for instructions.

Aaron Urdiales,
Division Director, Superfund and Emergency Management Division, Region 8.

[FR Doc. 2024-27724 Filed 11-26-24; 8:45 am]

BILLING CODE 6560-50-P